ENVIRONMENTAL PROTECTION AGENCY

[ER-FRL-8594-4]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in Federal Register dated April 17, 2009 (74 FR 17860).

Draft EISs

EIS No. 20050084, ERP No. D-FRC-L03012-WA, Capacity Replacement Project, Construction and Operation of 79.5 miles Pipeline; Modify 5 Existing Compressor Stations, U.S. Army COE 10 and 404 Permits, Whatcom, Skagit, Snohomish, King, Pierce and Thurston Counties, WA.

Summary: EPA expressed environmental concerns because wetland impacts have not been fully mitigated; and recommended the implementation of a project-specific erosion control plan. Rating EC2.

EIS No. 20090102, ERP No. D-FAA-A12046-00, PROGRAMMATIC—Streamlining the Processing of Experimental Permit Applications, Issuing Experimental Permits for the Launch and Reentry of Useable Suborbital Rockets.

Summary: EPA has no objection to the proposed action. Rating LO.

EIS No. 20090131, ERP No. D-AFS-F65074-WI, Grub Hoe Vegetation and Transportation Management Project, Proposes to Implement Vegetation Management Activities, Eagle River Florence Ranger District, Chequamegon-Nicolet National Forest, Florence County, WI.

Summary: EPA does not object to the proposed project. Rating LO.

Final EISs

EIS No. 20080419, ERP No. F-NHT-A86245-00, Corporate Average Fuel Economy (CAFE) Proposed Standards for Model Year 2011-2015 Passenger Cars and Light Trucks, Implementation.

Summary: EPA expressed environmental concerns about limited information in the FEIS on the technical assumptions and inputs upon which the document is based.

EIS No. 20090110, ERP No. F-USN-C11023-NJ, Laurelwood Housing Area, Access at Naval Weapons Station Earle, Lease Agreement, Monmouth County, NJ.

Summary: No formal comment letter was sent to the preparing agency.

EIS No. 20090118, ERP No. F-AFS-L65544-AK, Navy Timber Sale Project, To Address the Potential Effects of Timber Harvesting on Etolin Island, Wrangell Ranger District, Tongass National Forest, AK.

Summary: EPA has no objection to the proposed action.

EIS No. 20090129, ERP No. F-AFS-K65346-CA, Round Valley Fuels Reduction and Vegetation Management Project, Proposes to Reduce Fuel and Manage Vegetation, Funding, Goosenest Ranger District, Klamath National Forest, Siskiyou County, CA.

Summary: No formal comment letter was sent to the preparing agency.

EIS No. 20090130, ERP No. F-NPS-E65079-TN, Great Smoky Mountains National Park General Management Plan Amendment, Implementation, Elkmont Historic District, Sevier County, TN.

Summary: EPA has no objection to the proposed action.

EIS No. 20090135, ERP No. F-BLM-K60041-NV, Lincoln County Land Act (LCLA) Groundwater Development and Utility Right-of-Way Project, Implementation, To Grant a Right-of-Way Permit for Groundwater Development and Utility Facilities, Lincoln County, NV.

Summary: EPA expressed environmental concerns about the long-term availability of the water supply, conservation and water use efficiency, and indirect and cumulative impacts. EPA recommends continued collaboration through a regional groundwater framework to ensure efficient long-term sustainable use of the deep carbonate-rock aquifer, and evaluation and consideration of specific climate change adaptation measures and back-up water supplies.

EIS No. 20090149, ERP No. F-NOA-A91077-00, Amendment 1 to the Tilefish Fishery Management Plan, Proposed Individual Fishing Quota (IFQ) Program, To Reduce Overcapacity in the Commercial Tilefish Fishery, Maine to North Carolina.

Summary: EPA has no objection to the proposed action.

EIS No. 20090169, ERP No. FS-FHW-H40397-MO, Interstate 70 Corridor Improvements, Kansas City to St. Louis, Updated Information, Evaluates if a Truck-Only Lane Strategy is Viable, Kansas City to St. Louis, MO.

Summary: EPA's previous issues have been resolved; therefore, EPA has no objection to the proposed action.

Dated: June 9, 2009.
Robert W. Hargrove,
Director, NEPA Compliance Division, Office of Federal Activities.

[FR Doc. E9-13861 Filed 6-11-09; 8:45 am]

BILLING CODE 6560-50-P